Executive Order 14339 of August 25, 2025

Additional Measures To Address the Crime Emergency in the District of Columbia

By the authority vested in me as President by the Constitution and the laws of the United States of America, it is hereby ordered:

Section 1. Crime Emergency. Two weeks ago, I declared a crime emergency in the District of Columbia to address the rampant violence and disorder that have undermined the proper and safe functioning of the Federal Government, and therefore, the Nation, and that have led to disgraceful conditions in our Nation's capital. In furtherance of Executive Order 14333 of August 11, 2025 (Declaring a Crime Emergency in the District of Columbia), I am now ordering further actions to address the conditions described in that Executive Order.

Sec. 2. Operational Actions. (a) The Director of the National Park Service shall, subject to the availability of appropriations and applicable law, hire additional members of the United States Park Police in the District of Columbia to support the policy goals described in Executive Order 14333. The United States Park Police shall ensure enforcement of all applicable laws within their jurisdiction, including the Code of the District of Columbia, to help maintain public safety and proper order.

(b) The United States Attorney for the District of Columbia shall, subject to the availability of appropriations and applicable law, hire additional prosecutors to focus on prosecuting violent and property crimes.

(c) The D.C. Safe and Beautiful Task Force established in Executive Order 14252 of March 27, 2025 (Making the District of Columbia Safe and Beautiful), shall establish an online portal for Americans with law enforcement or other relevant backgrounds and experience to apply to join Federal law enforcement entities to support the policy goals described in Executive Order 14333. Each law enforcement agency that is a member of the D.C. Safe and Beautiful Task Force, as well as other relevant components of the Department of Justice as the Attorney General determines, shall further, subject to the availability of appropriations and applicable law, immediately create and begin training, manning, hiring, and equipping a specialized unit that is dedicated to ensuring public safety and order in the Nation's capital that can be deployed whenever the circumstances necessitate, and that could be deployed, subject to applicable law, in other cities where public safety and order has been lost.

(d)(i) The Secretary of Defense shall, subject to the availability of appropriations and applicable law, immediately create and begin training, manning, hiring, and equipping a specialized unit within the District of Columbia National Guard, subject to activation under Title 32 of the United States Code, that is dedicated to ensuring public safety and order in the Nation's capital. As appropriate and consistent with applicable law, the Attorney General, the Secretary of the Interior, and the Secretary of Homeland Security, in coordination with the Secretary of Defense, shall each deputize the members of this unit to enforce Federal law.

(ii) The Secretary of Defense shall immediately begin ensuring that each State's Army National Guard and Air National Guard are resourced, trained, organized, and available to assist Federal, State, and local law enforcement in quelling civil disturbances and ensuring the public safety and order whenever the circumstances necessitate, as appropriate under law. In coordination with the respective adjutants general, the Secretary of Defense shall designate an appropriate number of each State's trained National Guard members to be reasonably available for rapid mobilization for such purposes. In addition, the Secretary of Defense shall ensure the availability of a standing National Guard quick reaction force that shall be resourced, trained, and available for rapid nationwide deployment.

(e) The Secretary of Housing and Urban Development (HUD) shall investigate any non-compliance with the crime-prevention and safety requirements of HUD agreements by the District of Columbia Housing Authority or any landlord in the District of Columbia. These investigations shall include consideration of the provisions of such agreements that require housing providers to maintain safe, decent, and sanitary conditions or to restrict tenants who engage in criminal activity that threatens health, safety, and the right to peaceful enjoyment for other tenants, including engaging in drug distribution, violent criminal activity, and domestic violence. The Secretary of HUD shall refer any findings of non-compliance to the Attorney General, Federal law enforcement authorities, the District of Columbia Housing Authority Police Department, and the Metropolitan Police Department, as appropriate.

(f) The Secretary of Transportation shall conduct additional inspections, audits, and examinations to determine whether conditions exist in federally-funded transit services in the District of Columbia that endanger transit workers, and take appropriate remedial action that is within the Department of Transportation's authority.

Sec. 3. Potential Amendments to Metropolitan Police Department General Orders. (a) The Attorney General shall review the Metropolitan Police Department General Orders and shall request that the Mayor of the District of Columbia make such updates and modifications to such orders as the Attorney General determines are necessary to address the crime emergency and ensure public order and safety.

Sec. 4. Severability. If any provision of this order, or the application of any provision to any individual or circumstance, is held to be invalid, the remainder of this order and the application of its other provisions to any other individuals or circumstances shall not be affected thereby.

Sec. 5. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees or agents, or any other person.

(d) The costs for publication of this order shall be borne by the Department of Justice.

THE WHITE HOUSE,

August 25, 2025.

[FR Doc. 2025-16614

Filed 8-27-25; 11:15 am]

Billing code 4410-CW-P